SMALL BUSINESS ADMINISTRATION

Small Business Jobs Act Implementation

AGENCY: U.S. Small Business Administration.

ACTION: Notice of public meetings.

SUMMARY: The U.S. Small Business Administration (SBA) announces it is holding a series of public meetings on its implementation of the Small Business Jobs Act. These public meetings will be held in selected cities across the country to broaden the opportunity for public participation with SBA's development and implementation of the procurement, finance, grant, international trade and other program enhancements enacted in the Small Business Jobs Act.

DATES: The meetings will be held on the dates and times specified in the Event Information section of the Supplementary Information below. It is recommended that all attendees register at least one week prior to the scheduled meeting date.

ADDRESSES: The meetings will be held at the locations specified in the Event Information section of the SUPPLEMENTARY INFORMATION below. Parties interested in attending a meeting must register by providing the requested registration information at http://www.sba.gov/jobsacttour.

FOR FURTHER INFORMATION CONTACT: Andrew D. Cutillo, Office of Government Contracting and Business Development, at (202)-205-6280, or Andrew.Cutillo@sba.gov.

SUPPLEMENTARY INFORMATION:

I. Background

On Sept. 27, 2010, President Obama signed into law the Small Business Jobs Act (SBJA). The new law provides critical resources to help small businesses continue to drive economic recovery and create jobs including extension of SBA enhanced loan provisions, offering billions more in lending support and tax cuts, and expanding other opportunities, including provisions affecting government contracting programs for small business owners.

SBA will be hosting this Small Business Jobs Act Tour that will cover 13 cities to provide information and receive input on SBJA provisions.

II. Topics and Agenda

While the agenda may vary from city to city, a typical agenda is below. Please visit http://www.sba.gov/jobsacttour for updates on each location's agenda.

Time | Title of session
9 a.m.-10 a.m | Opening Keynote, Overview of Small Business Jobs Act and SBA's Mission.
10 a.m.-10:15 a.m | Break.
10:15 a.m.-11:30 a.m | Room 1 Session #1: Small Business Jobs Act provisions affecting Small Business participation in government contracting.
| Room 2 Lender Roundtable.
| Room 3 Expanding Exporting Opportunities for Small Business.
11:30 a.m.-12:45 p.m | Room 1 Session #1, Continued.
| Room 2 Lender Roundtable, Continued.
| Room 3 Investing in Counseling and Training Services to Support the Growth of Small Business.
12:45 p.m.-1:45 p.m | Break.
1:45 p.m.-3 p.m | Room 1 Session #2: Small Business Jobs Act provisions affecting Small Business participation in government contracting.
| Room 2 Opportunities in Accessing Capital.
| Room 3 Expanding Exporting Opportunities for Small Business.
3 p.m.-4:15 p.m | Room 1 Session #2, Continued.
| Room 2 New SBA Loan Programs.
| Room 3 Investing in Counseling and Training Services to Support the Growth of Small Business.

Please note that the SBA will also include a discussion of Size Standards during the 3 p.m. breakout session at events in San Antonio, TX, San Diego, CA, Chicago, IL, and Washington, DC.

Putting More Capital in the Hands of Small Business Owners

SBA loans continue to be a critical tool for helping small businesses get the capital they need to grow and create jobs. The Small Business Jobs Act made permanent enhancements to SBA loan programs, such as raising the maximum loan sizes of the 7(a) and 504 programs. In addition, temporary provisions in the new law include a Dealer Floor Plan financing pilot as well as a program that allows some owner-occupied businesses to refinance their commercial real estate mortgages using an SBA loan. Beyond the SBJA, SBA is taking several steps to better serve its lending partners and borrowers, to simplify and streamline loan programs, and to improve oversight of SBA lending. Small business owners, prospective and current SBA lenders are especially encouraged to attend, share their ideas with the SBA, and learn more about new tools being offered.

Strengthening Small Businesses' Ability To Compete for and Win Federal Contracts

The Federal government awards hundreds of billions of dollars each year in federal contracts, nearly one-fourth of which goes to small firms. The Small Business Jobs Act contained 19 provisions that will help small businesses compete more effectively for federal contracts and subcontracts. SBA is rolling out these provisions that will help ensure more fairness, more opportunities, and more tools to help match federal agencies with small businesses that provide high-quality products and services. SBA wants to hear from interested parties about how it can effectively roll out new provisions, such as those relating to Multiple Award Contract set asides, subcontracting, Mentor Protégé Programs, and, at select events, its size process. Small business contractors are encouraged to attend, learn more about these new tools, and share their thoughts on improving the environment for small business contracting.

Expanding Resources for Counseling and Training

SBA has at least one District Office in each state, as well as about 14,000 affiliated counselors at Small Business Development Centers, Women's Business Centers and SCORE chapters. The Small Business Jobs Act is helping support these groups in a number of ways. For example, $50 million more is being provided to support the network of about 900 Small Business Development Centers throughout the country. Also, SBA is working with a broad group of counselors to equip them with more tools and information to help small firms start or increase exporting. All small business owners are encouraged to attend and learn more about the knowledge, tools, and contacts that SBA affiliated counselors can help provide.

Expanding Exporting Opportunities for Small Business

Small businesses looking for new opportunities to increase sales and profit, and take advantage of increased demand for high-quality U.S. goods and services, should consider exporting. The Small Business Jobs Act includes exporting resources to help small businesses by making the SBA Export Express pilot loan program permanent, increasing maximum sizes for SBA's three export loan programs, and creating a new State Trade and Export Promotion (STEP) grants pilot program which will provide funds to states to assist small business interested in exporting. See Notice of Grant Opportunities to States: STEP Grant Program, 76 FR 10082 (Feb. 23, 2011). These expanded opportunities also help build upon the goal of doubling exports in the next five years via the National Export Initiative. Small business owners with a current or prospective interest in exporting are especially encouraged to attend.

III. Event Information

Location | Date | Address
Columbus, OH | March 28, 2011, Begins 9 a.m., Ends 4:15 p.m | The Ohio State University, Ohio Union, 1739 N. High St., Columbus, OH 43210.
Miami, FL | March 28, 2011, Begins 9 a.m., Ends 4:15 p.m | Miami Dade College, Wolfson Campus, Chapman Center ( Building 3), 300 NE. 2nd Avenue, Miami, FL 33132.
New York, NY | March 30, 2011, Begins 9 a.m., Ends 4:15 p.m | 26 Federal Plaza, 6th Floor Conference Room A/B, New York, NY 10278.
Atlanta, GA | March 30, 2011, Begins 9:30 a.m., Ends 4:45 p.m | Loudermilk Center, 40 Courtland Street, NE., Atlanta, 30303.
Boston, MA | April 1, 2011, Begins 9 a.m., Ends 4:15 p.m | O'Neill Federal Building, 10 Causeway Street, Boston, MA 02222.
San Antonio, TX | April 1, 2011, Begins 9 a.m., Ends 4:15 p.m | The Norris Conference Center, 4522 Fredericksburg Road, San Antonio, TX 78201.
Albuquerque, NM | April 11, 2011, Begins 9 a.m., Ends 4:15 p.m | Embassy Suites Albuquerque, 1000 Woodward Place NE., Albuquerque, NM 87102.
San Diego, CA | April 11, 2011, Begins 9 a.m., Ends 4:15 p.m | County Health Services Complex, 3851 Rosecrans St., San Diego, CA 92110.
Denver, CO | April 13, 2011, Begins 9 a.m., Ends 4:15 p.m | Lowry Conference Center, 1061 Akron Wy Bldg 697, Denver, CO 80230.
Seattle, WA | April 13, 2011, Begins 9 a.m., Ends 4:15 p.m | Holiday Inn Seattle-SeaTac International Airport, 17338 International Blvd., Seattle, WA 98188.
Huntsville, AL | April 15, 2011, Begins 9 a.m., Ends 4:15 p.m | Chan Auditorium, College of Business, 801 Sparkman Drive, Huntsville, AL 35899.
Chicago, IL | April 15, 2011, Begins 9 a.m., Ends 4:15 p.m | Citigroup Center Building, 500 West Madison Street, Suite 1150, Chicago, IL 60661.
Washington, DC | TBD | TBD.

IV. Registration and Oral Presentation

Any individual interested in attending and making an oral presentation shall pre-register in advance with SBA. Oral presentations may consist of comments on existing rules and procedures, general questions, or new ideas for the SBA to consider. Presentations will be made in the breakout sessions, pursuant to the format of each session. Based on the number of registrants it may be necessary to impose time limits to ensure that everyone who wishes to speak has the opportunity to do so. Please refer to http://www.sba.gov/jobsacttour for registration information. SBA will attempt to accommodate all interested parties.

V. Information on Service for Individuals With Disabilities

Reasonable accommodations will be provided to those who request assistance at least one week in advance of the meeting for which assistance is being requested. For a complete list of meeting dates, locations and points of contact please visit http://www.sba.gov/jobsacttour.

Authority: Pub. L. 111-240.

Dated: February 28, 2011.
Ana Ma,
Chief of Staff.

[FR Doc. 2011-5010 Filed 3-4-11; 8:45 am]

BILLING CODE 8025-01-P